DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations and Variances on or before February 19, 2010.

ADDRESSES: You may submit your comments, identified by “docket number” on the subject line, by any of the following methods:

1. Electronic Mail: Standards-Petitions@dol.gov.

2. Facsimile: 1-202-693-9441.

3. Regular Mail: MSHA, Office of Standards, Regulations and Variances, 1100 Wilson Boulevard, Room 2350, Arlington, Virginia 22209, Attention: Patricia W. Silvey, Director, Office of Standards, Regulations and Variances.

4. Hand-Delivery or Courier: MSHA, Office of Standards, Regulations and Variances, 1100 Wilson Boulevard, Room 2350, Arlington, Virginia 22209, Attention: Patricia W. Silvey, Director, Office of Standards, Regulations and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modification.

II. Petitions for Modification

Docket Number: M-2009-059-C.

Petitioner: McClane Canyon Mining, P.O. Box 98, Loma, Colorado 81524.

Mine: McClane Canyon Mine, MSHA I.D. No. 05-03013, located in Garfield County, Colorado.

Regulation Affected: 30 CFR 75.1101-1(b) (Deluge-type water spray systems).

Modification Request: The petitioner requests a modification of the existing standard to permit an alternative method of compliance in lieu of using blow-off dust covers for nozzles of a deluge-type water spray system. The petitioner states that: (A) A person trained in testing procedures specific to the deluge-type water spray fire suppression systems utilized at each belt drive will once each week: (1) Conduct a visual examination of each of the deluge-type water spray fire suppression systems; (2) conduct a functional test of the deluge-type water spray fire suppression systems by actuating the system and observing its performance; and (3) record the results of the examination and functional test in a book maintained on the surface for that purpose. The record will be made available to the authorized representative of the Secretary and retained at the mine for one year; (B) Any malfunction or clogged nozzle detected as a result of the weekly examination or functional tests will be corrected immediately; and (C) the procedure used to perform the functional test will be posted at or near each belt drive which utilizes a deluge-type water spray fire suppression system. The petitioner asserts that the proposed alternative method will provide a measure of protection equal to or greater than that of the standard.

Docket Number: M-2009-060-C.

Petitioner: Brooks Run Mining Company, LLC, 25 Little Birch Road, Sutton, West Virginia 26601.

Mine: Poplar Ridge Deep Mine, MSHA I.D. No. 46-08885 and Saylor A Mine, MSHA I.D. No. 46-09126, located in Webster County, West Virginia.

Regulation Affected: 30 CFR 75.1101-1(b) (Deluge-type water spray systems).

Modification Request: The petitioner requests a modification of the existing standard to permit an alternative method of compliance in lieu of using blow-off dust covers for nozzles of a deluge-type water spray system. The petitioner proposes to continue its weekly inspection and functional tests for the complete deluge type water spray system. The petitioner states that: (1) Weekly inspection and functional tests are conducted of its complete deluge-type water spray system; (2) in view of the frequent inspections and functional tests of the system, the dust covers are not necessary because the nozzles can be maintained in a unclogged condition through weekly use; and (3) it is burdensome and exposes persons to undue hazards of falling from heights to recap the large number of covers weekly after each inspection and functional test. The petitioner asserts that the alternative method will at all times guarantee no less than the same measure of protection afforded the miners employed by said standard.

Docket Number: M-2009-061-C.

Petitioner: Owlco Energy, LLC, P.O. Box 976, Middlesboro, Kentucky 40965.

Mine: Mine No. 1, MSHA I.D. No. 15-18870, located in Letcher County, Kentucky.

Regulation Affected: 30 CFR 75.507-1(a) (Electric equipment other than power-connection points; outby the last open crosscut; return air; permissibility requirements)

Modification Request: The petitioner requests a modification of the existing standard to permit the maximum length of trailing cables supplying power to permissible pumps to be increased. The petitioner states that: (1) This petition will apply only to trailing cables supplying single phase, 240-volt power for permissible pumps; (2) the maximum length of 240-volt power for permissible pumps will be 3,000 feet; (3) the 240-volt power for permissible pump trailing cables will be no smaller than #10 American Wire Gauge (AWG); (4) the company currently utilizes a P-20CE, 2G-3018 MSHA approved pump. This pump is approved with 500 feet of #14/5 AWG trailing cable with a circuit breaker set at 50 amps. Owlco Energy, LLC proposes the alternative that will provide no less than the same protection by protecting this circuit with a 30 amp circuit breaker. The petitioner estimates that this setting would be satisfactory and be approximately 70-75 percent of the available fault current; (5) the outside diameter (OD) of the #10/3 AWG cable is within 0.01 inch(s) of the originally approved #14/5 AWG cable in the permissible XP enclosure (XP-2181); (6) the mines current pump circuits exceeding the approved lengths of trailing cables are attached with their respective locations in the mine; (7) all future pump installations with trailing cables installed that are longer than the approved lengths will be maintained as shown in items 1-5. These pumps will be shown on the mine electrical map and training will be provided to all mine employees about his proper care and maintenance of these pumps; and (8) within sixty (60) days after this petition is granted, the petitioner will submit proposed revisions for their approved Part 48 training plans to the District Manager for the area in which the mine is located. The training will include the following: (a) Training in mining methods and operating procedures that will protect the cable against damage; (b) training in proper procedures for examining the trailing cables to ensure the cables are in safe operating condition; (c) training in hazards of setting the instantaneous circuit breakers too high to adequately protect the trailing cable(s); and (d) training in how to verify the circuit interrupting device(s) protecting the trailing cable(s) are properly set and maintained. The petitioner further states that the procedures of 30 CFR 48.3 for approval of proposed revisions to already approved training plans will apply. The petitioner asserts that the proposed alternative method will at all times guarantee no less than the same measure of protection to all miners at Owlco Energy, LLC provided by the existing standard.

Docket Number: M-2009-062-C.

Petitioner: American Energy Corporation, 43521 Mayhugh Hill Road, Twp. Hwy. 88, Beallsville, Ohio 43716.

Mine: Century Mine, MSHA I.D. No. 33-01070, located in Monroe County, Ohio.

Regulation Affected: 30 CFR 75.503 (Permissible electric face equipment; maintenance) and 30 CFR 18.35 (Portable trailing cables and cords).

Modification Request: The petitioner requests a modification of the existing standard to permit the maximum length of trailing cables for supplying power to permissible equipment used in continuous mining sections to be increased. The petitioner states that: (1) This petition will apply only to trailing cables supplying three-phase, 480-volt A.C. power to roof bolters; (2) the maximum length of the 480-volt A.C. trailing cables supplying power to roof bolters will be 850 feet. The 480-volt trailing cables for roof bolters will no be smaller than #2 American Wire Gauge (AWG); (3) all circuit breakers used to protect #2 AWG trailing cables exceeding 700 feet in length will have instantaneous trip units calibrated to trip at 700 amperes. The trip setting of these circuit breakers will be sealed or locked, and these circuit breakers will have permanent, legible labels. Each label will identify the circuit breakers as being suitable for protecting No. 2 AWG cables. The label will be maintained legible; (4) replacement instantaneous trip units, used to protect No. 2 AWG trailing cables, will be calibrated to trip at 700 amperes and this setting will be sealed or locked; (5) all components that provide short-circuit protection will have a sufficient interruption rating in accordance with the maximum calculated fault currents available; (6) during each production day, persons designated by the mine operator will visually examine the trailing cables to ensure that the cables are in safe operating condition and that the instantaneous settings of the specially calibrated breakers do not have seals or locks removed and that they do not exceed the stipulated settings; (7) any trailing cable that is not in safe operating condition will be removed from service immediately and repaired or replaced; (8) each splice or repair in the trailing cables will be made in a workmanlike manner and in accordance with the instructions of the manufacturer of the splice or repair materials. The splice or repair will comply with 30 CFR §§ 75.603 and 75.604; (9) permanent warning labels will be installed and maintained on the cover(s) of the power center identifying the location of each sealed short-circuit protective device. These labels will warn miners not to change or alter these short-circuit settings; (10) the alternative method will not be implemented until designated miners have been trained to examine the integrity of seals or locks, verify the short-circuit settings, and properly examine trailing cables for defects and damage; and (11) within 60 days after this petition is granted, proposed revisions for their approved 30 CFR Part 48 training plans will be submitted to the District Manager for the area in which the mine is located. The training plan will include: (a) Training in the mining methods and operating procedures for protecting the trailing cables against damage; (b) training in proper procedures for examining the trailing cables to ensure the cables are in safe operating condition; (c) training in hazards of setting short-circuit interrupting device(s) too high to adequately protect the trailing cable(s); and (d) training in how to verify that the circuit interrupting device(s) protecting the trailing cable(s) are properly set and maintained. The petitioner further states that the procedures of 30 CFR 48.3 for approval of proposed revisions to already approved training plans will apply. The petitioner asserts that the alternative method will at all times guarantee no less than the same measure of protection afforded to all miners at the Century Mine as would be provided by the existing standard.

Docket Number: M-2009-063-C.

Petitioner: Prairie State Generating Company, LLC, 4274 County Highway 12, Marissa, Illinois 62257.

Mine: Lively Grove Mine, MSHA I.D. No. 11-03193, located in Washington County, Illinois.

Regulation Affected: 30 CFR 75.1909(b)(6) (Non-permissible diesel-powered equipment; design and performance requirements).

Modification Request: The petitioner requests a modification of the existing standard to permit the Getman Road Builder, Serial Number 460-002 to be operated as it was originally designed, without front brakes. The petitioner states that: (1) The rule does not address equipment with more than four (4) wheels, specifically the Getman, Model RDG-1504S Road Builder, with six (6) wheels; (2) the machine has dual brake systems on the four (4) rear wheels, and is designed to prevent loss of braking due to a single component failure. The petitioner proposes to: (1) Limit the speed of the machine to 10 miles per hour (MPH) by permanently blocking out any gear that would provide higher speed or use transmission and differential ratios that would limit the maximum speed to 10 MPH; (2) provide training for the operators to recognize appropriate speeds for different road conditions and slopes; and (3) provide training for the operators to lower the grader blade to provide additional stopping capability. The petitioner asserts that the safety of the miners will not be compromised if the machines are operated as described in this petition.

Dated: January 14, 2010.
Patricia W. Silvey,
Director, Office of Standards, Regulations and Variances.

[FR Doc. 2010-936 Filed 1-19-10; 8:45 am]

BILLING CODE 4510-43-P